DEPARTMENT OF LABOR

Employment and Training Administration

[TA-W-82,290]

Hewlett Packard Company, Printing & Personal System Americas Division, Marketing Services, Houston, Texas; Notice of Investigation

Pursuant to Section 221 of the Trade Act of 1974, as amended, an investigation was initiated in response to a Trade Adjustment Assistance (TAA) petition filed on December 27, 2012 by the State of Texas on behalf of workers and former workers of Hewlett Packard Company, Printing & Personal System Americas Division, Marketing Services, Houston, Texas. On January 25, 2013, the Department issued a Notice of Termination of Investigation because the State of Texas withdrew its petition in order for a petition covering a larger worker group (which included the workers and former workers of Printing & Personal System Americas Division, Marketing Services, Houston, Texas) to be filed. Because the later-filed petition was withdrawn, however, the Department is re-opening the investigation of TA-W-82,290 and will issue a determination accordingly.

Signed in Washington, DC this 9th day of July, 2013.
Del Min Amy Chen,
Certifying Officer, Office of Trade Adjustment Assistance.

[FR Doc. 2013-19188 Filed 8-7-13; 8:45 am]

BILLING CODE 4510-FN-P